ENVIRONMENTAL PROTECTION AGENCY

[ER-FRL-6652-7]

Retraction of Notice of Intent To Prepare an EIS

AGENCY: Environmental Protection Agency, EPA.

ACTION: Notice.

SUMMARY: This notice retracts the Notice of Intent (NOI) to prepare an Environmental Impact Statement (EIS) for the proposed reissuance of National Pollutant Discharge Elimination System (NPDES) General Permits (GPs), OKG010000 and NMG010000, for Concentrated Animal Feeding Operations (CAFOs) in Oklahoma and New Mexico, and Indian lands in Oklahoma and New Mexico, issued on May 18, 2004. The scoping meetings scheduled for June 22, 2004, in Oklahoma City, Oklahoma, and on June 24, 2004, in Las Cruces, New Mexico, are cancelled.

ADDRESSES: Office of Planning and Coordination, U.S. Environmental Protection Agency, Region 6, 1445 Ross Ave., Dallas, TX 75202; tel: (214) 665-8150.

Responsible Official: Richard E. Greene, Regional Administrator.

Anne Norton Miller,
Director, Office of Federal Activities.

[FR Doc. 04-13917 Filed 6-17-04; 8:45 am]

BILLING CODE 6560-50-P